DEPARTMENT OF COMMERCE

Foreign-Trade Zones Board

[Order No. 2156]

Establishment of a Foreign-Trade Zone Under the Alternative Site Framework in Socorro, Texas

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR 400.2(c)) as an option for the establishment or reorganization of zones;

Whereas, the City of Socorro (the Grantee) made application to the Board (B-1-2023, docketed January 9, 2023) requesting the establishment of a foreign-trade zone under the ASF with a service area of the City of Socorro, Texas, adjacent to the Tornillo Customs and Border Protection port of entry;

Whereas, notice inviting public comment was given in the Federal Register (88 FR 2603, January 17, 2023) and the application was processed pursuant to the FTZ Act and the Board's regulations; and,

Whereas, the Board adopted the findings and recommendations of the examiners' report, and found that the requirements of the FTZ Act and the Board's regulations are satisfied;

Therefore, on November 9, 2023, the Board granted to the City of Socorro the privilege of establishing a foreign-trade zone, designated on the records of the Board as Foreign-Trade Zone No. 302, as described in the application, and subject to the FTZ Act and the Board's regulations, including section 400.13, and to the Board's standard 2,000-acre activation limit.

Dated: November 13, 2023.
Lisa W. Wang,
Assistant Secretary for Enforcement and Compliance, Alternate Chairman, Foreign-Trade Zones Board.

[FR Doc. 2023-25350 Filed 11-15-23; 8:45 am]

BILLING CODE 3510-DS-P